DEPARTMENT OF DEFENSE

Office of the Secretary

[Docket ID DoD-2013-OS-0047]

Privacy Act of 1974; System of Records

AGENCY: Defense Logistics Agency, DoD.

ACTION: Notice to alter a System of Records.

SUMMARY: The Defense Logistics Agency proposes to alter a system of records in its inventory of record systems subject to the Privacy Act of 1974 (5 U.S.C. 552a), as amended.

DATES: This proposed action will be effective on April 22, 2013 unless comments are received which result in a contrary determination. Comments will be accepted on or before April 22, 2013.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler, DLA FOIA/Privacy Act Office, Headquarters, Defense Logistics Agency, ATTN: DGA, 8725 John J. Kingman Road, Suite 1644, Fort Belvoir, VA 22060-6221, or by phone at (703) 767-5045.

SUPPLEMENTARY INFORMATION: The Defense Logistics Agency notices for systems of records subject to the Privacy Act of 1974 (5 U.S.C. 552a), as amended, have been published in the Federal Register and are available from the address in FOR FURTHER INFORMATION CONTACT.

The proposed system report, as required by 5 U.S.C. 552a(r) of the Privacy Act of 1974, as amended, was submitted on March 5, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 18, 2013.
Aaron Siegel,
Alternate OSD Federal Register Liaison Officer, Department of Defense.

S190.24

System name:

Biography File (April 12, 2011; 76 FR 20341).

Changes:

* * * * *

System location:

Delete entry and replace with “Public Affairs Offices of the Defense Logistics Agency. Official mailing addresses are published as an appendix to DLA's compilation of systems of records notices.”

Categories of individuals covered by the system:

Delete entry and replace with “Members of the Senior Executive Service and general/flag officers in senior positions.”

Categories of records in the system:

Add to end of entry “or by their staff with their permission.”

* * * * *

Purpose(s):

Replace “and for site visits” with “for site visits; and as general information to employees and members of the public.”

* * * * *

System manager(s) and address:

Delete entry and replace with “The Heads of the DLA Public Affairs Offices. Official mailing addresses are published as an appendix to DLA's compilation of systems of records notices.”

* * * * *

[FR Doc. 2013-06527 Filed 3-20-13; 8:45 am]

BILLING CODE 5001-06-P